DEPARTMENT OF HOMELAND SECURITY

Coast Guard

[Docket No. USCG-2012-1080]

Merchant Marine Personnel Advisory Committee; Vacancies

AGENCY: Coast Guard, DHS.

ACTION: Request for applications.

SUMMARY: The Coast Guard seeks applications for membership on the Merchant Marine Personnel Advisory Committee (MERPAC). This Committee advises the Secretary of the Department of Homeland Security on matters related to personnel in the U.S. merchant marine, including but not limited to training, qualifications, certification, documentation, and fitness standards.

DATES: Applicants should submit a cover letter and resume in time to reach the Alternate Designated Federal Officer (ADFO) on or before March 11, 2013.

ADDRESSES: Applicants should send their cover letter and resume to the following address: Commandant (CG-OES-1), ATTN MERPAC, US Coast Guard, 2100 2ND ST SW STOP 7126, WASHINGTON DC 20593-7126; or by faxing (202) 372-1926; or by emailing to davis.j.breyer@uscg.mil. This notice is available in our online docket, USCG-2012-1080, at http://www.regulations.gov.

FOR FURTHER INFORMATION CONTACT: Davis J. Breyer, ADFO of MERPAC; telephone 202-372-1445 or email at davis.j.breyer@uscg.mil.

SUPPLEMENTARY INFORMATION: MERPAC is a Federal advisory committee established under the authority of section 871 of The Homeland Security Act of 2002, (Title 6, United States Code, section 451). This committee is established in accordance with and operates under the provisions of the Federal Advisory Committee Act (FACA) (Title 5, United States Code, Appendix). MERPAC advises the Secretary of the Department of Homeland Security on matters relating to personnel in the U.S. merchant marine, including but not limited to training, qualifications, certification, documentation, and fitness standards. The Committee will advise, consult with, and make recommendations reflecting its independent judgment to the Secretary.

MERPAC is expected to meet approximately twice a year as called for by its charter, once at or near Coast Guard Headquarters, Washington, DC, and once at a location outside of Washington. It may also meet for extraordinary purposes. Its subcommittees and working groups may also meet to consider specific tasks as required.

We will consider applications for six positions that expire or become vacant on June 1, 2013. To be eligible, you should have experience in one or more of the following areas of expertise: One position for a marine educator representing the viewpoint of State Maritime Academies; one position for a licensed engineering officer who is licensed as either a limited chief engineer or a designated duty engineer; one position for a licensed deck officer with an unlimited tonnage master's license with experience on tank vessels; one position for a member who represents the viewpoint of shipping companies employed in ship operation management; one position for an unlicensed seaman who represents the viewpoint of Qualified Members of the Engine Department; and one position for a member who will be drawn from the general public.

If you are selected as a member from the general public, you will be appointed and serve as a Special Government Employee (SGE) as defined in section 202(a) of title 18, United States Code. As a candidate for appointment as a SGE, applicants are required to complete a Confidential Financial Disclosure Report (OGE Form 450). A completed OGE Form 450 is not releasable to the public except under an order issued by a Federal court or as otherwise provided under the Privacy Act (5 U.S.C. 552a). Only the Designated Agency Ethics Official (DAEO) or his or her designee may release a Confidential Financial Disclosure Report. Applicants can obtain this form by going to the Web site of the Office of Government Ethics (www.oge.gov) or by contacting the individual listed above in the FOR FURTHER INFORMATION CONTACT section of this notice. Applications not accompanied by a completed OGE-Form 450 will not be considered.

Registered lobbyists are not eligible to serve on federal advisory committees. Registered lobbyists are lobbyists required to comply with provisions contained in the Lobbying Disclosure Act of 1995 (Pub. L. 104-65 as amended).

Each MERPAC committee member serves a term of office of up to three years. Members may be considered to serve consecutive terms. All members serve without compensation from the Federal Government; however, upon request, they do receive travel reimbursement and per diem.

The Department of Homeland Security (DHS) does not discriminate in employment on the basis of race, color, religion, sex, national origin, political affiliation, sexual orientation, gender identity, marital status, disability and genetic information, age, membership in an employee organization, or any other non-merit factor.

If you are interested in applying to become a member of the Committee, send your cover letter and resume to Davis J. Breyer, ADFO of MERPAC by mail, fax, or email according to the instructions in the ADDRESSES section of this notice. Send your cover letter and resume in time for it to be received by the ADFO on or before March 11, 2013.

To visit our online docket, go to http://www.regulations.gov, enter the docket number for this notice (USCG-2012-1080) in the Search box, and click “Search”. Please do not post your resume on this site. During the vetting process, applicants may be asked to provide date of birth and social security number.

Dated: December 31, 2012.
J. G. Lantz,
Director of Commercial Regulations and Standards.

[FR Doc. 2013-00090 Filed 1-7-13; 8:45 am]

BILLING CODE 9110-04-P